INTERNATIONAL TRADE COMMISSION

[Inv. No. 337-TA-740]

In the Matter of: Certain Toner Cartridges and Components Thereof; Notice of Investigation

AGENCY: U.S. International Trade Commission.

ACTION: Institution of investigation pursuant to 19 U.S.C. 1337.

SUMMARY: Notice is hereby given that a complaint was filed with the U.S. International Trade Commission on August 20, 2010, under section 337 of the Tariff Act of 1930, as amended, 19 U.S.C. 1337, on behalf of Lexmark International, Inc. of Lexington, Kentucky. The complaint alleges violations of section 337 based upon the importation into the United States, the sale for importation, and the sale within the United States after importation of certain toner cartridges and components thereof by reason of infringement of certain claims of U.S. Patent No. 5,337,032 (“the '032 patent”); U.S. Patent No. 5,634,169 (“the '169 patent”); U.S. Patent No. 5,758,233 (“the '233 patent”); U.S. Patent No. 5,768,661 (“the '661 patent”); U.S. Patent No. 5,802,432 (“the '432 patent”); U.S. Patent No. 5,875,378 (“the '378 patent”); U.S. Patent No. 6,009,291 (“the '291 patent”); U.S. Patent No. 6,078,771 (“the '771 patent”); U.S. Patent No. 6,397,015 (“the '015 patent”); U.S. Patent No. 6,459,876 (“the '876 patent”); U.S. Patent No. 6,816,692 (“the '692 patent”); U.S. Patent No. 6,871,031 (“the '031 patent”); U.S. Patent No. 7,139,510 (“the '510 patent”); U.S. Patent No. 7,233,760 (“the '760 patent”); U.S. Patent No. 7,305,204 (“the '204 patent”). The complaint further alleges that an industry in the United States exists as required by subsection (a)(2) of section 337.

The complainant requests that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its internet server at http://www.usitc.gov. The public record for this investigation may be viewed on the Commission's electronic docket (EDIS) at http://edis.usitc.gov.

FOR FURTHER INFORMATION CONTACT: Rett Snotherly, Esq., Office of Unfair Import Investigations, U.S. International Trade Commission, telephone (202) 205-2599

Authority: The authority for institution of this investigation is contained in section 337 of the Tariff Act of 1930, as amended, and in section 210.10 of the Commission's Rules of Practice and Procedure, 19 CFR 210.10 (2010).

Scope of Investigation: Having considered the complaint, the U.S. International Trade Commission, on October 5, 2010, ordered that—

(1) Pursuant to subsection (b) of section 337 of the Tariff Act of 1930, as amended, an investigation be instituted to determine whether there is a violation of subsection (a)(1)(B) of section 337 in the importation into the United States, the sale for importation, or the sale within the United States after importation of certain toner cartridges and components thereof that infringe one or more of claim 1 of the '032 patent; claims 1-3, 32, 33, 36, and 42 of the '169 patent; claims 1 and 2 of the '233 patent; claims 1 and 2 of the '661 patent; claims 1-3 of the '432 patent; claims 1, 2, and 14 of the '378 patent; claims 1 and 2 of the '291 patent; claims 1, 2, 5, 6, 10, and 15 of the '771 patent; claims 1, 2, 7, 10, 11, 14, 15, 17, 22, and 24 of the '015 patent; claims 1-3 and 28 of the '876 patent; claim 1 of the '692 patent; claims 1, 3, 5, 8, and 10 of the '031 patent; claims 1 and 6 of the '510 patent; claims 11, 12, and 14 of the '760 patent; and claims 1, 7, 14, and 15 of the '204 patent, and whether an industry in the United States exists as required by subsection (a)(2) of section 337;

(2) For the purpose of the investigation so instituted, the following are hereby named as parties upon which this notice of investigation shall be served:

(a) The complainant is:

Lexmark International, Inc., 740 W. New Circle Road, Lexington, KY 40550.

(b) The respondents are the following entities alleged to be in violation of section 337, and are the parties upon which the complaint is to be served:

Ninestar Image Co. Ltd., (a/k/a Ninestar Technology Co., Ltd.), No. 63 Mingzhubei Road, Zhuhai 519075, Guangdong, China.

Ninestar Image Int'l, Ltd., No. 63 Mingzhubei Road, Zhuhai 519075, Guangdong, China.

Seine Image International Co. Ltd., Rm. 18, 9/F New Commercial Ctr., 9 on Lai St, Sha Tin, New Territories, Hong Kong.

Ninestar Technology Company, Ltd., 150 Abbott Court, Piscataway, NJ 08854.

Ziprint Image Corporation, 19805 Harrison Avenue, Walnut, CA 91789.

Nano Pacific Corporation, 377 Swift Avenue, South San Francisco, CA 94080.

IJSS Inc. (d/b/a TonerZone.com Inc. and Inkjet Superstore), 1880 Century Park East, #200, Los Angeles, CA 90067.

Chung Pal Shin (d/b/a Ink Master), 16635 Valley View, Cerritos, CA 90703.

Nectron International, Inc., 725 Park Two Drive, Sugarland, TX 77478.

Quality Cartridges Inc., 162 44th Street, Brooklyn, NY 11232.

Direct Billing International Incorporated, (d/b/a Office Supply Outfitter and d/b/a The Ribbon Connection), 5910 Sea Lion Place, Suite 100, Carlsbad, CA 92010.

E-Toner Mart, Inc., 1718 Potrero Avenue, Suite #A, South El Monte, CA 91733.

Alpha Image Tech, 1718 Potrero Avenue Suite #A, South El Monte, CA 91733.

ACM Technologies, Inc., 2535 Research Drive, Corona, CA 92882.

Virtual Imaging Products Inc., 135 Ormont Drive Unit #14/15, North York, Ontario M9L 1N6, Acecom Inc.—San Antonio.

(d/b/a Inksell.com), 14833 Bulverde Road, San Antonio, TX 78251.

Ink Technologies Printer Supplies, LLC, (d/b/a Ink Technologies LLC), 7600 McEwen Road, Dayton, OH 45459.

Jahwa Electronics Co., Ltd., 7-6 Hyunam-ri Bugi-myeon Chongwon-gun, Chungchongbuk-do, South Korea 363-920.

Huizhou Jahwa Electronics Co., Ltd., No. 10 JiangJun Road, ZhouTian Village, Quichang Town, Huiyang District, Huizhou, Guangdong Province, China.

Copy Technologies, Inc., 130 James Aldredge Blvd., SW., Atlanta, GA 30336.

Laser Toner Technology, Inc., 515 Wharton Circle SW., Atlanta, GA 30336.

C & R Services, Incorporated, 2035 Fair Oaks Circle, Corinth, TX 76210.

Print-Rite Holdings Ltd., Unit 8, 10F, Block A, MP Industrial, Centre, No. 18 Ka Yip Street, Chai Wan, Hong Kong.

Union Technology Int'l (M.C.O.) Co., Ltd. 14H, Nam Kwong Building, 223-225 Avenida Drive, Rodrigo Rodrigues, Macao.

(c) The Commission investigative attorney, party to this investigation, is Rett Snotherly, Esq., Office of Unfair Import Investigations, U.S. International Trade Commission, 500 E Street, SW., Suite 401, Washington, DC 20436; and

(3) For the investigation so instituted, the Honorable Paul J. Luckern, Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

Issued: October 6, 2010.
By order of the Commission.
Marilyn R. Abbott,
Secretary to the Commission.

[FR Doc. 2010-25550 Filed 10-8-10; 8:45 am]

BILLING CODE 7020-02-P